DEPARTMENT OF AGRICULTURE

Commodity Credit Corporation

7 CFR Part 1430

Dairy Products

CFR Correction

In Title 7 of the Code of Federal Regulations, Parts 1200 to 1599, revised as of January 1, 2015, on page 690, in § 1430.202, the definition of “Department or USDA” is reinstated to read as follows:

§ 1430.202 Definitions.

* * * * *

Department or USDA means the United States Department of Agriculture.

* * * * *

[FR Doc. 2015-33019 Filed 12-30-15; 8:45 am]

BILLING CODE 1505-01-D